DEPARTMENT OF THE INTERIOR

Bureau of Land Management

[AZ-420-1430-ES; AZA 32985]

Notice of Realty Action; Recreation and Public Purposes (R&PP) Act Classifications; Arizona

AGENCY: Bureau of Land Management, Interior.

ACTION: Notice.

SUMMARY: The Bureau of Land Management (BLM) has examined and found suitable for classification approximately 16 acres of public land in Pima County, Arizona, for lease or conveyance to the Drexel Heights Fire District under the provisions of the Recreation and Public Purposes Act, as amended, and in keeping with section 7 of the Taylor Grazing Act, as amended. The Fire District proposes to use the land for the expansion of an existing fire station facility, operated by the Drexel Heights Fire District.

DATES: Submit comments on or before July 23, 2007.

ADDRESSES: Detailed information concerning this action, including but not limited to, a development plan and documentation relating to compliance with applicable environmental and cultural resources laws, is available for review at the Bureau of Land Management, Tucson Field Office, 12661 East Broadway Boulevard, Tucson, Arizona 85748-7208.

FOR FURTHER INFORMATION CONTACT: Susan Bernal, Realty Specialist, at (520) 258-7206; e-mail address susan_bernal @blm.gov.

SUPPLEMENTARY INFORMATION: The following described public land in Pima County, Arizona, has been examined and found suitable for lease or conveyance for use as an expanded fire station facility under the provisions of the Recreation and Public Purposes (R&PP) Act, as amended, 43 U.S.C. 869 et seq., and is hereby classified accordingly pursuant to section 7 of the Taylor Grazing Act, as amended, 43 U.S.C. 315f:

Gila and Salt River Meridian, Arizona

T. 15 S., R. 12 E., sec. 3, lots 1 and 2 (within).

The area described contains 16 acres in Pima County.

When eligible for conveyance, BLM will resurvey the lots and relot them.

The Drexel Heights Fire District is a political subdivision of the State of Arizona that has the authority per Arizona Revised Statute Title 48 to acquire federal land (See 43 Code of Federal Regulations (CFR) 2741.2) and that operates an existing fire station serving the Drexel Heights Fire District. The Fire District proposes to expand the existing fire station by using all of the above-described land for a fire fighter training facility, including a new classroom, a driver training course and a parking area to be operated by the Fire District. The Fire District, as an agent of the State of Arizona, has advised BLM that it has the authority, as a duly authorized fire district, to operate the fire fighter training facility, both as to training instruction and, also, the functions of the physical site. Devoting the subject acreage to these uses would be of great benefit to the Tucson community.

As to the foregoing, the statement required by 43 CFR 2741.4(b) to accompany a Recreation and Public Purposes Act application has been filed in the BLM Tucson Field Office. The land is not needed for any Federal purpose. The lease or conveyance of the lands for recreational or public purposes use is consistent with the Phoenix District Resource Management Plan, dated September 1989, would be in the public interest and, as allowed, would involve no more acreage than is reasonably necessary for the new uses proposed by the Fire District.

Detailed information concerning the foregoing is available for review at the BLM, Tucson Field Office, at the address stated above, during normal business hours Monday through Friday (except Federal holidays). A public meeting may be held if the authorized officer determines that public interest in the proposal warrants holding such a meeting.

Upon publication of this notice in the Federal Register, the lands will be segregated from all other forms of appropriation under the public land laws, including the general mining laws, except for lease or conveyance under the Recreation and Public Purposes Act and leasing under the mineral leasing laws.

The lease or conveyance of the lands, when issued, would be subject to the following terms, conditions, and reservations:

1. A right-of-way thereon for ditches and canals constructed by the authority of the United States. Act of August 30, 1890, 26 Stat. 391 (43 U.S.C. 945).

2. Provisions of the Recreation and Public Purposes Act and to all applicable regulations of the Secretary of the Interior.

3. All minerals shall be reserved to the United States, together with the right to prospect for, mine and remove the minerals, under applicable laws and regulations established by the Secretary of the Interior, including all necessary access and exit rights.

4. All valid existing rights.

5. A right-of-way authorized under Sec. 17 of the Act of November 9, 1921 (42 Stat. 216) for road purposes to the Arizona State Highway Department (AZA 6032) affecting public lands within sec. 3, T. 15 S., R. 12 E.

6. A right-of-way authorized under the Act of October 21, 1976 (90 Stat. 2776; 43 U.S.C. 1761) for sewer line purposes to the Pima County Board of Supervisors (AZA 10867) affecting public lands within sec. 3, T. 15 S., R. 12 E.

7. Rights-of-way authorized under the Act of October 21, 1976 (90 Stat. 2776; 43 U.S.C. 1760) for road purposes to Pima County Transportation and Flood Control (AZA 17485 and AZA 22310) affecting public lands within sec. 3, T. 15 S., R. 12 E.

8. A right-of-way authorized under the Act of October 21, 1976 (90 Stat. 2776; 43 U.S.C. 1760) for Central Arizona Project purposes to the Bureau of Reclamation, Arizona Project Office (AZA 22075) affecting public lands within sec. 3, T., 15 S., R. 12 E.

9. Rights-of-way authorized under the Act of October 21, 1976 (90 Stat. 2776; 43 U.S.C. 1760) for transmission line purposes to the Tucson Electric Power Company (AZA 3048301 and AZA 30088) affecting public lands within sec. 3, T. 15 S., R. 12 E.

10. A right-of-way authorized under the Act of October 21, 1976 (90 Stat. 2776; 43 U.S.C. 1761) for a potable water pipeline for municipal water supply purposes to the Tucson Water Department, (AZA 30969) affecting public lands within sec. 3, T. 15 S., R. 12 E.

11. A mineral material contract authorized under the Act of July 31, 1947 (61 Stat. 681; 30 U.S.C. 601,602) for mineral extraction to Clay Mine Adobe, (AZA 33755) affecting public lands within sec. 3, T. 15 S., R. 12 E. The mineral material permittee will reclaim the area of his operation including removal of all unpermitted surface and subsurface structures upon the termination of the mineral material contract. Said contract expires October 16, 2009.

12. CERCLA Term: “Pursuant to the requirements established by section 120(h) of the Comprehensive Environmental Response, Compensation and Liability Act, (42 U.S.C. 9620(h)) (CERCLA), as amended by the Superfund Amendments and Reauthorization Act of 1988, (100 Stat. 1670) notice is hereby given that the above-described lands have been examined and no evidence was found to indicate that any hazardous substances had been stored for one year or more, nor had any hazardous substances been disposed of or released on the subject property.”

13. Indemnification Term: “All lessees or Purchasers/patentees, by accepting a lease patent, covenant and agree to indemnify, defend, and hold the United States harmless of any costs, damages, claims, causes of action, penalties, fines, liabilities, and judgments of any kind or nature arising from the past, present, and future acts or omissions of the lessees patentees or their employees, agents, contractors, lessees, or any third-party, arising out of or in connection with the lessee's patentee's use, occupancy, or operations on the patented real property. This indemnification and hold harmless agreement includes, but is not limited to, acts and omissions of the lessee's patentees and their employees, agents, contractors, or lessees, or any third party , arising out of or in connection with the use and/or occupancy of the leased patented real property which has already resulted or does hereafter result in: (1) Violations of Federal, state and local laws and regulations that are now or may in the future become, applicable to the real property; (2) Judgments, claims or demands of any kind assessed against the United States; (3) Costs, expenses, or damages of any kind incurred by the United States; (4) Releases or threatened releases of solid or hazardous waste(s), and/or hazardous substance(s) , as defined by Federal or state environmental laws, off, on, into or under land, property and other interests of the United States; (5) Activities by which solid waste or hazardous substance(s) or waste, as defined by Federal and state environmental laws are generated, released, stored, used or otherwise disposed of on the leased patented real property, and any cleanup response, remedial action or other actions related in any manner to said solid or hazardous substances(s) or waste(s); or (6) Natural resource damages as defined by Federal and state law. This covenant shall be construed as running with the parcels of land patented or otherwise conveyed by the United States, and may be enforced by the United States in a court of competent jurisdiction.

Classification Comments: Interested persons may submit comments involving the suitability of the land for a fire fighter training facility, including a new classroom, a driver training course and a parking area. Comments on the classification are restricted to whether the land is physically suited for the proposals, whether the use will maximize the future use or uses of the land, whether the use is consistent with local planning and zoning, or if the use is consistent with state and federal programs.

Application Comments: Interested persons may submit comments regarding the specific use applied for as well as the proposed plan of development, whether the BLM followed proper administrative procedures in reaching the decision, or any other factor not directly related to the suitability of the lands for a fire fighter training facility, including a new classroom, a driver training course and a parking area. Any adverse comments will be reviewed by the State Director. In the absence of any adverse comments, the classification will become effective on August 6, 2007. The lands will not be offered for lease or conveyance until after the classification becomes effective.

Before including your address, phone number, e-mail address, or other personal identifying information in your comment, be advised that your entire comment—including your personal identifying information—may be made publicly available at any time. While you can ask us in your comment to withhold from public review your personal identifying information, we cannot guarantee that we will be able to do so.

(Authority: 43 CFR 2741.5(h)).

Patrick Madigan,
Field Office Manager.

[FR Doc. E7-10890 Filed 6-5-07; 8:45 am]

BILLING CODE 4310-32-P